DEPARTMENT OF THE INTERIOR

Bureau of Land Management

Notice of Availability of Ukiah Draft Resource Management Plan and Draft Environmental Impact Statement

AGENCY: Bureau of Land Management (BLM).

ACTION: Notice of availability of the Ukiah Draft Resource Management Plan and Draft Environmental Impact Statement.

SUMMARY: In accordance with the National Environmental Policy Act of 1969 and the Federal Land Policy and Management Act of 1976, the Bureau of Land Management (BLM) has prepared a Draft Resource Management Plan and Draft Environmental Impact Statement (RMP/EIS) for the Ukiah Field Office.

DATES: Written comments on the Draft RMP/EIS will be accepted for 90 days following the date the Environmental Protection Agency publishes the Notice of Availability in the Federal Register. Future meetings or hearings and any other public involvement activities will be announced at least 15 days in advance through public notices, media news releases, and/or mailings.

ADDRESSES: You may submit comments at the public meetings or by any of the following methods:

• Web Site: http://www.ca.blm.gov/ukiah (subject to change)

• Fax: (707) 468-4027

• Mail: 2550 North State Street, Ukiah, California 95482

FOR FURTHER INFORMATION CONTACT: Eli Ilano, (916) 978-4427.

SUPPLEMENTARY INFORMATION: The planning area covers approximately 270,000 surface acres and approximately 214,000 acres of additional subsurface mineral estate within the following California counties: Marin, Solano, Sonoma, Mendocino, Lake, Napa, Yolo, Colusa, and Glenn. The Ukiah RMP, when completed, will provide management guidance for use and protection of the resources managed by the Ukiah Field Office. The Ukiah Draft RMP/EIS has been developed through a collaborative planning process and considers five alternatives. The primary issues addressed include: conflicts among motorized, mechanized, and non-motorized/non-mechanized recreationists; protection of sensitive natural and cultural resources from impacts due to increased recreational use and other land uses; provision of guidance for wind energy development; and addressing other planning issues raised during the scoping process. The Draft RMP/EIS also includes consideration of the designation of Areas of Critical Environmental Concern (ACECs). The preferred alternative includes the following ACECs: Cache Creek ACEC—10,000 acres (existing); Northern California Chaparral RNA—11,206 acres (existing); Indian Valley Brodiaea ACEC—100 acres (currently 40 acres); Cedar Roughs ACEC/RNA—6,350 acres (currently 5,567 acres); Knoxville ACEC—5,236 acres; Stornetta ACEC—887 acres; Walker Ridge ACEC—3,990 acres; The Cedars ACEC—1,500 acres; Black Forest ACEC—239 acres; and Lost Valley ACEC—40 acres. Two additional ACECs, Blue Ridge ACEC—13,640 acres and Quail Ridge ACEC—558 acres, were considered but not included in the preferred alternative. Use of public lands within these ACECs would vary, depending on the resources and/or values identified (see Chapter 2 of the Draft RMP/EIS), but would likely include limitations on off-highway vehicle use and development projects.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. CD and paper copies of the Ukiah Draft RMP/EIS are available at the Ukiah Field Office at the above address; CD copies are available at the California BLM State Office, 2800 Cottage Way, Sacramento, California 95825.

Dated: July 11, 2005.
Richard Burns,
Ukiah Field Office Manager.

[FR Doc. 05-18345 Filed 9-15-05; 8:45 am]

BILLING CODE 4310-40-P